DEPARTMENT OF COMMERCE

National Oceanic and Atmospheric Administration

50 CFR Part 648

[Docket No. 0907301205-0289-02]

RIN 0648-XA805

Fisheries of the Northeastern United States; Atlantic Herring Fishery; Temporary Removal of Herring Trip Limit in Atlantic Herring Management Area 3

AGENCY: National Marine Fisheries Service (NMFS), National Oceanic and Atmospheric Administration (NOAA), Commerce.

ACTION: Temporary rule; inseason action.

SUMMARY: NMFS announces temporary removal of the 2,000-lb (907.2 kg) trip limit for the Atlantic herring fishery in Management Area 3 because recent catch data indicate that 95 percent of the sub-annual catch limit in Area 3 has not been fully attained. Vessels issued a Federal Atlantic herring permit may resume fishing for and landing herring, in amounts greater than 2,000 lb (907.2-kg), consistent with their Atlantic herring permit category, effective 0001 hr, November 7, 2011, through 0001 hr, November 10, 2011. At 0001 hr, November 10, 2011, vessels will again be prohibited from fishing for, catching, possessing, transferring, or landing more than 2,000 lb (907.2-kg) of Atlantic herring per trip or calendar day.

DATES: Effective 0001 hr, November 7, 2011, through 0001 hr, November 10, 2011.

FOR FURTHER INFORMATION CONTACT: Lindsey Feldman, Fishery Management Specialist, (978) 675-2179.

SUPPLEMENTARY INFORMATION: Regulations governing the herring fishery are found at 50 CFR part 648. The regulations require annual specification of the overfishing limit, acceptable biological catch, annual catch limit (ACL), optimum yield, domestic harvest and processing, U.S. at-sea processing, border transfer, and sub-ACLs for each management area. The 2011 Domestic Annual Harvest is 91,200 metric tons (mt); the 2011 sub-ACL allocated to Area 3 is 38,146 mt, and 0 mt of the sub-ACL is set aside for research (75 FR 48874, August 12, 2010).

Section 648.201(a) requires NMFS to monitor catch from the herring fishery in each of the herring management areas, using dealer reports, state data, and other available information, to determine when the catch of herring is projected to reach 95 percent of the management area sub-ACL. When such a determination is made, NMFS is required to prohibit, through publication in the Federal Register, herring vessel permit holders from fishing for, catching, possessing, transferring, or landing more than 2,000 lb (907.2-kg) of herring, per trip or calendar day, in or from the specified management area for the remainder of the closure period. Transiting an area closed to directed fishing with more than 2,000 lb (907.2-kg) of herring on board is allowed under the conditions specified below.

Based upon information indicating that 95 percent of the sub-ACL would be reached by October 3, 2011, NMFS filed a temporary rule effective October 3 through December 31, 2011, that reduced the herring trip limit in Area 3 for all federally permitted herring vessels to 2,000 lb (907.2-kg) per trip or calendar day. The NMFS Northeast Regional Administrator has since determined, based upon the latest dealer reports, data corrections, and other available information, that the herring fleet has not yet taken 95 percent of the sub-ACL, and, as of November 2, 2011, there is approximately 2,026 mt of Atlantic herring quota still available in Area 3. So that the herring fleet is able to harvest closer to 95 percent of the Area 3 sub-ACL, consistent with applicable regulations and trip limits, this action temporarily removes the 2,000 lb (907.2-kg) trip limit implemented on October 3, 2011, and restores the trip limits, if any, in effect before October 3, 2011, until 0001 hr November 10, 2011. Effective 0001 hr, November 7, 2011, through 0001 hrs, November 10, 2011, vessels issued an All Areas or an Areas 2 and 3 Limited Access Herring Permit are authorized to fish for, possess, or land Atlantic herring with no possession restrictions; vessels issued a Limited Access Incidental Catch Herring Permit are authorized to fish for, possess, or land up to 55,000 lb (25 mt); and vessels issued an open access herring permit may not fish for, possess, or land more than 6,600 lb (3 mt) of Atlantic herring in Area 3.

At 0001 hr November 10, 2011, all federally permitted herring vessels will again be prohibited from fishing for, catching, possessing, transferring, or landing more than 2,000 lb (907.2-kg) of herring, per trip or calendar day, in or from Area 3, through December 31, 2011. Vessels transiting Area 3 with more than 2,000 lb (907.2-kg) of herring on board may do so, provided such herring was not caught in Area 3 and that all fishing gear is stowed and not available for immediate use, as required by § 648.23(b).

Effective 0001 hr, November 7, 2011, federally permitted dealers are advised that they may purchase more than 2,000 lb (907.2-kg) of Atlantic herring caught in Area 3 by federally permitted vessels until 0001 hr November 10, 2011. At 0001 hrs November 10, 2011, federally permitted dealers will again be prohibited from purchasing herring from federally permitted herring vessels that harvest more than 2,000 lb (907.2-kg) of herring from Area 3, through 2400 hr local time, December 31, 2011.

Classification

This action is taken under 50 CFR part 648 and is exempt from review under E.O. 12866.

The Assistant Administrator for Fisheries, NOAA (AA), finds good cause pursuant to 5 U.S.C. 553(b)(B) to waive prior notice and the opportunity for public comment because it would be impracticable and contrary to the public interest. This action temporarily removes the 2,000-lb (907.2-kg) herring trip limit in Area 3 from November 7 until November 10, 2011. As of 0001 hr November 10, 2011, the Area 3 trip limit will again be reduced to 2,000 lb (907.2-kg) per trip or calendar day, through December 31, 2011. The Atlantic herring fishery opened for the 2011 fishing year at 0001 hrs on January 1, 2011. The Atlantic herring fleet was prohibited from fishing for, catching, possessing, transferring, or landing more than 2,000 lb (907.2 mt) per trip or calendar day on October 3, 2011, based on projections that 95 percent of the available Area 3 herring quota had been harvested. Catch data indicating the Atlantic herring fleet did not harvest the full amount of available quota have only very recently become available. If implementation of this temporary removal of the 2,000 lb (907.2-kg) trip limit is delayed to solicit prior public comment, the remaining quota may not be fully harvested before the end of the 2011 fishing year on December 31. If public comment and the 30-day delayed effectiveness period is allowed, this action may re-open the directed herring fishery after the herring have moved out of Area 3.

Given the seasonal nature of the herring fishery, this would make this action ineffective. The AA finds, pursuant to 5 U.S.C. 553(d)(3), good cause to waive the 30-day delayed effectiveness period for the reasons stated above.

Authority: 16 U.S.C. 1801 et seq.

Dated: November 2, 2011.
Steven Thur,
Acting Director, Office of Sustainable Fisheries, National Marine Fisheries Service.

[FR Doc. 2011-28767 Filed 11-2-11; 4:15 pm]

BILLING CODE 3510-22-P